DEPARTMENT OF LABOR

Employment and Training Administration

[TA-W-39,423]

Outboard Marine Corporation (OMC), Delavan, Wisconsin; Notice of Termination of Investigation

Pursuant to Section 221 of the Trade Act of 1974, an investigation was initiated on June 18, 2001, in response to a petition filed on behalf of all workers at Outboard Marine Corporation (OMC), Delavan, Wisconsin.

The company filed Chapter 7 bankruptcy for all the locations of the Outboard Marine Corporation, including the subject facility. The trustee was unable to locate the records of the company to provide the Department the information necessary to issue a determination regarding the worker group eligibility requirements under Section 222 of the Trade Act of 1974. Consequently, further investigation in this case would serve no purpose, and the investigation has been terminated.

Signed in Washington, DC this 5th day of March, 2002.
Linda G. Poole,
Certifying Officer, Division of Trade Adjustment Assistance.

[FR Doc. 02-7602 Filed 3-28-02; 8:45 am]

BILLING CODE 4510-30-M